FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 21, 2014.

A. Federal Reserve Bank of Kansas City (Dennis Denney, Assistant Vice President) 1 Memorial Drive, Kansas City, Missouri 64198-0001:

1. The V. Dean Schwartz Family Trust, The Eileen B. Schwartz Revocable Trust, John B. Schwartz (individually and as trustee), and Pat D. Schwartz, all of Blue Rapids, Kansas, as members of the John B. Schwartz Family Group acting in concert; to retain voting shares of Blue Rapids Bancshares, Inc., and thereby indirectly retain voting shares of State Bank of Blue Rapids, both in Blue Rapids, Kansas.

Board of Governors of the Federal Reserve System, June 30, 2014.
Michele Taylor Fennell,
Assistant Secretary of the Board.

[FR Doc. 2014-15657 Filed 7-2-14; 8:45 am]

BILLING CODE 6210-01-P